NUCLEAR REGULATORY COMMISSION

[Docket No. 50-461; NRC-2024-0046]

Constellation Energy Generation, LLC; Clinton Power Station, Unit 1; Final Supplemental Environmental Impact Statement

AGENCY: Nuclear Regulatory Commission.

ACTION: Notice; issuance.

SUMMARY: The U.S. Nuclear Regulatory Commission (NRC) has published a final Supplemental Environmental Impact Statement (SEIS), issued as NUREG-1437, Supplement 63, “Generic Environmental Impact Statement for License Renewal of Nuclear Plants Regarding License Renewal for Clinton Power Station, Unit 1, Final Report.” This SEIS evaluates the environmental impacts of the license renewal of Facility Operating License No. NPF-62 for an additional 20 years of operation for Clinton Power Station, Unit 1 (CPS), as well as alternatives to license renewal. CPS is located in DeWitt County, approximately six miles east of the city of Clinton in east-central Illinois. Alternatives to the proposed action of license renewal for CPS include the no-action alternative and reasonable replacement power alternatives.

DATES: NUREG-1437, Supplement 63 is available as of August 1, 2025.

ADDRESSES: Please refer to Docket ID NRC-2024-0046 when contacting the NRC about the availability of information regarding this document. You may obtain publicly available information related to this document using any of the following methods:

• Federal Rulemaking Website: Go to https://www.regulations.gov and search for Docket ID NRC-2024-0046. Address questions about Docket IDs in Regulations.gov to Bridget Curran; telephone: 301-415-1003; email: Bridget.Curran@nrc.gov. For technical questions contact the individual(s) listed in the For Further Information Contact section of this document.

• NRC's Agencywide Documents Access and Management System (ADAMS): You may access publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. NUREG-1437, Supplement 63, is available in ADAMS under Accession No. ML25212A224.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of NUREG-1437, Supplement 63 regarding the proposed renewal of Facility Operating License No. NPF-62 for an additional 20 years of operation for CPS will be available for public review at the Vespasian Warner Public Library, 310 N Quincy St., Clinton, IL 61727.

FOR FURTHER INFORMATION CONTACT: Ashley Waldron, Office of Nuclear Material Safety and Safeguards, U.S. Nuclear Regulatory Commission, Washington, DC 20555-0001; telephone: 301-415-7317; email: Ashley.Waldron@nrc.gov.

SUPPLEMENTARY INFORMATION:

I. Background

In accordance with section 51.118 of title 10 of the Code of Federal Regulations, “Final environmental impact statement—notice of availability,” the NRC is making available to the public NUREG-1437, Supplement 63 regarding the proposed renewal of the Constellation Energy Generation, LLC (CEG) Facility Operating License No. NPF-62 for an additional 20 years of operation for CPS. A notice of availability of the draft SEIS (NUREG-1437, Supplement 63, Draft Report for Comment) was published in the Federal Register on April 16, 2025 (90 FR 16011). The U.S. Environmental Protection Agency issued its notice of availability of the draft SEIS on April 18, 2025 (90 FR 16524). The public comment period on the draft SEIS ended on June 2, 2025, and the comments received on the draft SEIS are addressed in the final SEIS (NUREG-1437, Supplement 63, Final Report).

II. Discussion

The draft SEIS (NUREG-1437, Supplement 63, Draft Report for Comment) was issued for public comment. The final SEIS (NUREG-1437, Supplement 63, Final Report) addresses the comments received on the draft SEIS. As discussed in Chapter 4 of the final SEIS, the NRC staff has determined that the adverse environmental impacts of license renewal for CPS (i.e., the continued operation of CPS for a period of 20 years beyond the expiration date of the current operating license) are not so great that preserving the option of license renewal for energy-planning decision-makers would be unreasonable. This recommendation is based on: (1) information in the environmental report, as supplemented, and other documents submitted by CEG; (2) the NRC staff's consultation with Federal, State, Tribal, and local governmental agencies; (3) the NRC staff's independent environmental review; and (4) the NRC staff's consideration of public comments received during the scoping process and on the draft SEIS (NUREG-1437, Supplement 63, Draft Report for Comment).

Dated: August 6, 2025.
For the Nuclear Regulatory Commission.
Kimyata Savoy,
Acting Deputy Director, Division of Rulemaking, Environmental, and Financial Support, Office of Nuclear Material Safety and Safeguards.

[FR Doc. 2025-15127 Filed 8-7-25; 8:45 am]

BILLING CODE 7590-01-P